POSTAL SERVICE

Change in Rates of General Applicability for Competitive Products

AGENCY: Postal Service™.

ACTION: Notice of a change in rates of general applicability for competitive products.

SUMMARY: This notice sets forth time-limited changes in rates of general applicability for competitive products.

DATES: Applicability date: October 6, 2024.

FOR FURTHER INFORMATION CONTACT: Elizabeth Reed, 202-268-3179.

SUPPLEMENTARY INFORMATION: On August 8, 2024, pursuant to their authority under 39 U.S.C. 3632, the Governors of the Postal Service established time-limited price changes for competitive products. The Governors' Decision and the record of proceedings in connection with such decision are reprinted below in accordance with section 3632(b)(2). Mail Classification Schedule language containing the new prices can be found at www.prc.gov.

Ruth Stevenson,
Chief Counsel, Ethics and Legal Compliance.

Decision of the Governors of the United States Postal Service on Changes in Rates of General Applicability for Competitive Products (Governors' Decision No. 24-4)

August 8, 2024.

Statement of Explanation and Justification

Pursuant to authority under section 3632 of title 39, as amended by the Postal Accountability and Enhancement Act of 2006 (“PAEA”), we establish new prices of general applicability for certain domestic shipping services (competitive products), and concurrent classification changes to effectuate the new prices. These prices shall be in effect at 12:00 a.m. CDT on October 6, 2024 until 12:00 a.m. CST on January 19, 2025, at which time prices will be restored to the levels that were in effect prior to these increases. The changes are described generally below, with a detailed description of the changes in the attachment. The attachment includes the draft Mail Classification Schedule sections with the new prices that will take effect on October 6 displayed in the price charts, as well as the Mail Classification Schedule sections with the prices that will be restored on January 19.

As shown in the nonpublic annex being filed under seal herewith, the changes we establish should enable each competitive product to cover its attributable costs (39 U.S.C. 3633(a)(2)) and should result in competitive products as a whole complying with 39 U.S.C. 3633(a)(3), which, as implemented by 39 CFR 3035.107(c), requires competitive products collectively to contribute a minimum of 9.6 percent to the Postal Service's institutional costs. Accordingly, no issue of subsidization of competitive products by market dominant products should arise (39 U.S.C. 3633(a)(1)). We therefore find that the new prices are in accordance with 39 U.S.C. 3632-3633 and 39 CFR 3035.102.

I. Domestic Products

A. Priority Mail Express

Overall, the Priority Mail Express price change represents a 4.9 percent increase. The existing structure of zoned Retail and Commercial price categories is maintained. Retail prices will increase 4.9 percent on average, while the Commercial price category will increase 4.9 percent on average.

B. Priority Mail

On average, the Priority Mail prices will be increased by 5.5 percent. The existing structure of zoned Retail and Commercial price categories is maintained. Retail prices will increase 5.3 percent on average, while the Commercial price category will increase 5.6 percent on average.

C. USPS Ground Advantage

USPS Ground Advantage, introduced in July 2024, is the Postal Service's flagship ground package product. USPS Ground Advantage prices will increase 6.4 percent on average. The existing structure of zoned Retail and Commercial price categories is maintained. Retail prices will increase 6.2 percent on average, while the Commercial price category will increase 6.5 percent on average. The Alaska Limited Overland Routes (LOR) price category will see a 10.3 percent increase.

No price changes are being made to Parcel Select, Special Services, or International competitive products.

Order

The changes in prices set forth herein shall be effective at 12:00 a.m. on October 6, 2024, and will be rolled back to current levels at 12:00 a.m. on January 19, 2025. We direct the Secretary of the Board of Governors to have this decision published in the Federal Register in accordance with 39 U.S.C. 3632(b)(2), and direct management to file with the Postal Regulatory Commission appropriate notice of these changes.

By The Governors:

Roman Martinez IV,

Chairman, Board of Governors.

UNITED STATES POSTAL SERVICE OFFICE OF THE BOARD OF GOVERNORS

Certification of Governors' Vote on Governors' Decision No. 24-4

Consistent with 39 U.S.C. 3632(a), I hereby certify that on August 8, 2024, the Governors voted on adopting Governors' Decision No. 24-4, and that a majority of the Governors then holding office voted in favor of that Decision.

Date: August 8, 2024.

Michael J. Elston,

Secretary of the Board of Governors.

[FR Doc. 2024-20272 Filed 9-5-24; 8:45 am]

BILLING CODE 7710-12-P